DEPARTMENT OF ENERGY

Federal Energy Regulatory Commission

Combined Notice of Filings #1

Take notice that the Commission received the following exempt wholesale generator filings:

Docket Numbers: EG25-361-000.

Applicants: Clean Energy Future—Trumbull, LLC.

Description: Clean Energy Future—Trumbull, LLC submits Notice of Self-Certification of Exempt Wholesale Generator Status.

Filed Date: 6/26/25.

Accession Number: 20250626-5175.

Comment Date: 5 p.m. ET 7/17/25.

Docket Numbers: EG25-362-000.

Applicants: Kelso Solar LLC.

Description: Kelso Solar LLC submits Notice of Self-Certification of Exempt Wholesale Generator Status.

Filed Date: 6/27/25.

Accession Number: 20250627-5086.

Comment Date: 5 p.m. ET 7/18/25.

Take notice that the Commission received the following Complaints and Compliance filings in EL Dockets:

Docket Numbers: EL25-95-000.

Applicants: Michigan Public Power Agency v. Michigan Electric Transmission Company, LLC.

Description: Complaint of Michigan Public Power Agency v. Michigan Electric Transmission Company, LLC.

Filed Date: 6/25/25.

Accession Number: 20250625-5186.

Comment Date: 5 p.m. ET 7/15/25.

Take notice that the Commission received the following electric rate filings:

Docket Numbers: ER10-1818-040.

Applicants: Public Service Company of Colorado.

Description: Triennial Market Power Analysis for Southwest Region of Public Service Company of Colorado.

Filed Date: 6/26/25.

Accession Number: 20250626-5168.

Comment Date: 5 p.m. ET 8/25/25.

Docket Numbers: ER25-2645-000.

Applicants: Sun Streams Expansion, LLC.

Description: § 205(d) Rate Filing: Revised Market-Based Rate Tariff to be effective 6/27/2025.

Filed Date: 6/26/25.

Accession Number: 20250626-5134.

Comment Date: 5 p.m. ET 7/17/25.

Docket Numbers: ER25-2646-000.

Applicants: Wildcat Ranch Energy Storage, LLC.

Description: § 205(d) Rate Filing: Application for Market-Based Rate Authorization—Wildcat Ranch Energy Storage to be effective 8/26/2025.

Filed Date: 6/26/25.

Accession Number: 20250626-5136.

Comment Date: 5 p.m. ET 7/17/25.

Docket Numbers: ER25-2647-000.

Applicants: Three Corners Prime Tenant, LLC.

Description: § 205(d) Rate Filing: Revised Market-Based Rate Tariff to be effective 6/27/2025.

Filed Date: 6/26/25.

Accession Number: 20250626-5139.

Comment Date: 5 p.m. ET 7/17/25.

Docket Numbers: ER25-2648-000.

Applicants: Umbriel Solar, LLC.

Description: § 205(d) Rate Filing: Revised Market-Based Rate Tariff to be effective 6/27/2025.

Filed Date: 6/26/25.

Accession Number: 20250626-5142.

Comment Date: 5 p.m. ET 7/17/25.

Docket Numbers: ER25-2649-000.

Applicants: Tilden Solar, LLC.

Description: § 205(d) Rate Filing: Tilden Solar Market-Based Rate to be effective 8/27/2025.

Filed Date: 6/26/25.

Accession Number: 20250626-5151.

Comment Date: 5 p.m. ET 7/17/25.

Docket Numbers: ER25-2650-000.

Applicants: Puget Sound Energy, Inc.

Description: § 205(d) Rate Filing: Beaver Creek Wind OA between PSE and NorthWestern, RS-9003 to be effective 7/1/2025.

Filed Date: 6/26/25.

Accession Number: 20250626-5159

Comment Date: 5 p.m. ET 7/17/25.

Docket Numbers: ER25-2651-000.

Applicants: Wilmot Energy Center II, LLC, Wildcat Ranch Wind Project, LLC.

Description: § 205(d) Rate Filing: Wildcat Ranch Wind Project, LLC submits tariff filing per 35.12: Application for Market-Based Rate Authorization—Wilmot Energy Center II to be effective 8/26/2025.

Filed Date: 6/26/25.

Accession Number: 20250626-5167.

Comment Date: 5 p.m. ET 7/17/25.

Docket Numbers: ER25-2652-000.

Applicants: Public Service Company of New Mexico.

Description: § 205(d) Rate Filing: Revisions to LGIP—COD to be effective 6/27/2025.

Filed Date: 6/26/25.

Accession Number: 20250626-5172.

Comment Date: 5 p.m. ET 7/17/25.

Docket Numbers: ER25-2653-000.

Applicants: PJM Interconnection, L.L.C.

Description: § 205(d) Rate Filing: Proposed Cost Allocation to Implement DOE Order 202-25-4 Pursuant to FPA 202(c) to be effective 6/1/2025.

Filed Date: 6/26/25.

Accession Number: 20250626-5181.

Comment Date: 5 p.m. ET 7/7/25.

Docket Numbers: ER25-2654-000.

Applicants: ISO New England Inc., New England Power Pool Participants Committee, Cross-Sound Cable Company, LLC.

Description: Compliance filing: ISO New England Inc. submits tariff filing per 35: ISO-NE, NEPOOL & Cross Sound Cable; Revisions to Schedules 18 and 24 to be effective 2/27/2026.

Filed Date: 6/27/25.

Accession Number: 20250627-5032.

Comment Date: 5 p.m. ET 7/18/25.

Docket Numbers: ER25-2655-000.

Applicants: Southwest Power Pool, Inc.

Description: § 205(d) Rate Filing: 2881R21 City of Chanute, KS NITSA NOA to be effective 9/1/2025.

Filed Date: 6/27/25.

Accession Number: 20250627-5039.

Comment Date: 5 p.m. ET 7/18/25.

Docket Numbers: ER25-2656-000.

Applicants: Southwest Power Pool, Inc.

Description: § 205(d) Rate Filing: 1518R29 Arkansas Electric Cooperative Corp NITSA NOA to be effective 9/1/2025.

Accession Number: 20250627-5055.

Comment Date: 5 p.m. ET 7/18/25.

Docket Numbers: ER25-2657-000.

Applicants: ISO New England Inc., Eversource Energy Service Company (as agent).

Description: Compliance filing: Eversource Energy Service Company (as agent) submits tariff filing per 35: PTO AC; Revisions to Schedules 20A and 21 in Compliance with Order No. 676 to be effective 2/27/2026.

Filed Date: 6/27/25.

Accession Number: 20250627-5060.

Comment Date: 5 p.m. ET 7/18/25.

Docket Numbers: ER25-2658-000.

Applicants: New Covert Generating Company, LLC.

Description: Tariff Amendment: Notice of Cancellation of Market-Based Rate Tariff to be effective 6/28/2025.

Filed Date: 6/27/25.

Accession Number: 20250627-5067.

Comment Date: 5 p.m. ET 7/18/25.

Docket Numbers: ER25-2659-000.

Applicants: Parkway Generation Essex, LLC.

Description: Tariff Amendment: Notice of Cancellation of Market-Based Rate Tariff to be effective 6/28/2025.

Filed Date: 6/27/25.

Accession Number: 20250627-5071.

Comment Date: 5 p.m. ET 7/18/25.

Docket Numbers: ER25-2660-000.

Applicants: Aron Energy Prepay 34 LLC.

Description: § 205(d) Rate Filing: Revised Market-Based Rate Tariff to be effective 6/28/2025.

Filed Date: 6/27/25.

Accession Number: 20250627-5081.

Comment Date: 5 p.m. ET 7/18/25.

Docket Numbers: ER25-2661-000.

Applicants: Aron Energy Prepay 35 LLC.

Description: § 205(d) Rate Filing: Revised Market-Based Rate Tariff to be effective 6/28/2025.

Filed Date: 6/27/25.

Accession Number: 20250627-5082.

Comment Date: 5 p.m. ET 7/18/25.

Docket Numbers: ER25-2662-000.

Applicants: Aron Energy Prepay 41 LLC.

Description: § 205(d) Rate Filing: Revised Market-Based Rate Tariff to be effective 6/28/2025.

Filed Date: 6/27/25.

Accession Number: 20250627-5083.

Comment Date: 5 p.m. ET 7/18/25.

Docket Numbers: ER25-2663-000.

Applicants: Aron Energy Prepay 42 LLC.

Description: § 205(d) Rate Filing: Revised Market-Based Rate Tariff to be effective 6/28/2025.

Filed Date: 6/27/25.

Accession Number: 20250627-5084.

Comment Date: 5 p.m. ET 7/18/25.

Docket Numbers: ER25-2664-000.

Applicants: Aron Energy Prepay 44 LLC.

Description: § 205(d) Rate Filing: Revised Market-Based Rate Tariff to be effective 6/28/2025.

Filed Date: 6/27/25.

Accession Number: 20250627-5087.

Comment Date: 5 p.m. ET 7/18/25.

Docket Numbers: ER25-2665-000.

Applicants: Aron Energy Prepay 45 LLC.

Description: § 205(d) Rate Filing: Revised Market-Based Rate Tariff to be effective 6/28/2025.

Filed Date: 6/27/25.

Accession Number: 20250627-5088.

Comment Date: 5 p.m. ET 7/18/25.

Docket Numbers: ER25-2666-000.

Applicants: Aron Energy Prepay 46 LLC.

Description: § 205(d) Rate Filing: Revised Market-Based Rate Tariff to be effective 6/28/2025.

Filed Date: 6/27/25.

Accession Number: 20250627-5090.

Comment Date: 5 p.m. ET 7/18/25.

Docket Numbers: ER25-2667-000.

Applicants: Aron Energy Prepay 47 LLC.

Description: § 205(d) Rate Filing: Revised Market-Based Rate Tariff to be effective 6/28/2025.

Filed Date: 6/27/25.

Accession Number: 20250627-5091.

Comment Date: 5 p.m. ET 7/18/25.

Docket Numbers: ER25-2668-000.

Applicants: Aron Energy Prepay 43 LLC.

Description: § 205(d) Rate Filing: Revised Market-Based Rate Tariff to be effective 6/28/2025.

Filed Date: 6/27/25.

Accession Number: 20250627-5092.

Comment Date: 5 p.m. ET 7/18/25.

Docket Numbers: ER25-2669-000.

Applicants: Aron Energy Prepay 51 LLC.

Description: § 205(d) Rate Filing: Revised Market-Based Rate Tariff to be effective 6/28/2025.

Filed Date: 6/27/25.

Accession Number: 20250627-5093.

Comment Date: 5 p.m. ET 7/18/25.

Docket Numbers: ER25-2670-000.

Applicants: Aron Energy Prepay 52 LLC.

Description: § 205(d) Rate Filing: Revised Market-Based Rate Tariff to be effective 6/28/2025.

Filed Date: 6/27/25.

Accession Number: 20250627-5094.

Comment Date: 5 p.m. ET 7/18/25.

Docket Numbers: ER25-2671-000.

Applicants: Tri-State Generation and Transmission Association, Inc.

Description: Compliance filing: Order No. 676-K Compliance Filing to be effective 2/27/2026.

Filed Date: 6/27/25.

Accession Number: 20250627-5096.

Comment Date: 5 p.m. ET 7/18/25.

Docket Numbers: ER25-2672-000.

Applicants: Aron Energy Prepay 53 LLC.

Description: § 205(d) Rate Filing: Revised Market-Based Rate Tariff to be effective 6/28/2025.

Filed Date: 6/27/25.

Accession Number: 20250627-5097.

Comment Date: 5 p.m. ET 7/18/25.

Docket Numbers: ER25-2673-000.

Applicants: Aron Energy Prepay 54 LLC.

Description: § 205(d) Rate Filing: Revised Market-Based Rate Tariff to be effective 6/28/2025.

Filed Date: 6/27/25.

Accession Number: 20250627-5098.

Comment Date: 5 p.m. ET 7/18/25.

Docket Numbers: ER25-2674-000.

Applicants: Aron Energy Prepay 57 LLC.

Description: § 205(d) Rate Filing: Revised Market-Based Rate Tariff to be effective 6/28/2025.

Filed Date: 6/27/25.

Accession Number: 20250627-5099.

Comment Date: 5 p.m. ET 7/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 27, 2025.
Carlos D. Clay,
Deputy Secretary.

[FR Doc. 2025-12333 Filed 7-1-25; 8:45 am]

BILLING CODE 6717-01-P